DEPARTMENT OF HOUSING AND URBAN DEVELOPMENT

[Docket No. FR-6001-N-13]

10-Day Notice of Proposed Information Collection: Certificate of Housing Counseling: Homeownership and Certificate of Housing Counseling: Home Retention

AGENCY: Office of the Assistant Secretary for Housing—Federal Housing Commissioner, HUD.

ACTION: Announcement notice.

SUMMARY: HUD is seeking approval from the Office of Management and Budget (OMB) for the information collection described below. In accordance with the Paperwork Reduction Act, HUD is requesting comment from all interested parties on the proposed collection of information. The purpose of this notice is to allow for 10 days of public comment.

DATES: Comments Due Date: May 30, 2017.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Colette Pollard, Reports Management Officer, QDAM, Department of Housing and Urban Development, 451 7th Street SW., Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

A. Overview of Information Collection

Title of Information Collection: Certificate of Housing Counseling: Homeownership and Certificate of Housing Counseling: Home Retention.

OMB Approval Number: 2502-0607.

Type of Request: Emergency Reinstatement Request.

Form Number(s): HUD-9912, HUD-9911.

Description of the need for the information and proposed use: The forms are currently in the process of being revised as part of a home counseling and mortgage industry initiative to issue a housing counseling certificate when a borrower has received counseling for either home ownership or home retention. Due to a misunderstanding in communication that occurred in August 2015, both of these forms were discontinued by OMB as of 12/31/15, when the 83D was mistakenly forwarded to OMB. Due to the critical nature of this high-level project HUD is now at a disadvantage and cannot afford the time delay that can adversely impact the benefits of this program. HUD is now seeking an Emergency Reinstatement Request to be able to facilitate the original collection that will afford HUD the opportunity to begin work on a revision package that will detail the forms modifications and their intended use. Upon approval, OMB will be able to reinstate OMB Control Number 2502-0607 and reissue a new expiration date.

Respondents: 8,000.

Estimated Number of Respondents: Individual and Households.

Estimated Number of Responses: 832,000.

Frequency of Response: At least once, but could vary.

Average Hours per Response: .25 hours.

Total Estimated Burdens: 208,000.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: May 15, 2017.
Genger Charles,
General Deputy Assistant Secretary for Housing.

[FR Doc. 2017-10224 Filed 5-18-17; 8:45 am]

BILLING CODE 4210-67-P